DEPARTMENT OF THE INTERIOR

Bureau of Land Management

[CACA 048649, LLCAD06000, L51010000.FX0000, LVRWB09B2490]

Notice of Availability of the Draft Environmental Impact Statement for the Desert Sunlight Holdings, LLC Desert Sunlight Solar Farm Project and Possible California Desert Conservation Area Plan Amendment

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Environmental Impact Statement (EIS) and Draft California Desert Conservation Area (CDCA) Plan Amendment for the Desert Sunlight Holdings, LLC Desert Sunlight Solar Farm (DSSF) Project, Riverside County, California, and by this notice, is announcing the opening of a 90-day public comment period.

DATES: To ensure that comments will be considered, the BLM must receive written comments on the Draft EIS within 90 days following the date the Environmental Protection Agency publishes its Notice of Availability in the Federal Register. The BLM will announce future meetings or hearings and any other public involvement activities at least 15 days in advance through public notices, media releases, and/or mailings.

ADDRESSES: You may submit comments related to the Desert Sunlight Holdings DSSF project by any of the following methods:

• Web site: http://www.blm.gov/ca/st/en/fo/palmsprings.html.

• E-mail: CAPSSolarFirstSolarDesertSunlight@blm.gov.

• Fax: (760) 833-7199.

• Mail or other delivery service: Allison Shaffer, Project Manager, BLM Palm Springs-South Coast Field Office, 1201 Bird Center Drive, Palm Springs, California 92262.

Copies of the DSSF Draft EIS are available from the Palm Springs-South Coast Field Office at the above address.

FOR FURTHER INFORMATION CONTACT: Allison Shaffer, BLM Project Manager, telephone (760) 833-7100. See also ADDRESSES section.

SUPPLEMENTARY INFORMATION: Desert Sunlight Holdings, LLC has requested a 19,516-acre right-of-way (ROW) to construct and operate the DSSF 550-megawatt (MW) solar photovoltaic (PV) facility and associated 220-kilovolt (kV) generation interconnection line (gen-tie line), and to facilitate the construction and operation by Southern California Edison (SCE) of a new 500- to 220-kV Red Bluff Substation where the project would interconnect with the SCE regional transmission system.

The DSSF power generation site would encompass 4,245 acres. The power generation site would consist of several components: A main generation area which includes PV arrays, combining switchgear, overhead lines, and access corridors; an operations and maintenance facility; a solar energy visitor center; an on-site substation where the voltage of the generated electricity would be stepped up to 220 kV to match that of the transmission line; and site security and fencing.

The transmission line from the project would transmit the electricity to the regional transmission system through the Red Bluff Substation where the power would feed into SCE's existing Devers-Palo Verde 1 (DPV1) 500-kV transmission line. The length of the transmission line would be 12.2 miles long involving 236 acres.

The Red Bluff Substation would consist of a 500/220 kV substation on approximately 90 acres, with an additional 20 to 30 acres for related features including access roads and drainage control. Substation features include: Connection of the project tranmission line into the substation; transmission lines to connect the substation to the DPV1 line; modification of DPV1 towers near the substation; construction of an electric distribution line for substation light and power; and installation of telecommunications facilities.

The DSSF project would be located approximately six miles north of Interstate Highway 10 and the rural community of Desert Center in Riverside County. The project area is within two miles of Joshua Tree National Park. The Draft EIS analyzes the direct, indirect, and cumulative impacts to the environment. Three action alternatives and three no project alternatives are analyzed in the Draft EIS. Alternatives include:

• The proposed action;

• A modified proposed action with an alternative transmission line route and substation location;

• A modified proposed action with a reduced project footprint (3,045 acres) and reduced output (413 MW);

• No action with no plan amendment to the CDCA plan;

• No project approval with a plan amendment to the CDCA plan to make the project area unsuitable for solar energy projects; and

• No project approval with a plan amendment to the CDCA plan to make the project area suitable for other solar energy projects.

The BLM's purpose and need for the DSSF project is to respond to Desert Sunlight Holdings' application under Title V of FLPMA (43 U.S.C. 1761) for a ROW grant to construct, operate, and decommission a solar PV facility on public lands in compliance with FLPMA, NEPA, BLM ROW and land use planning regulations, and other applicable laws and regulations. The BLM will decide whether to approve, approve with modification, or deny a ROW grant to Desert Sunlight Holdings for the proposed DSSF project. The BLM will also consider amending the CDCA Plan to make the project area (or portions) either available or unavailable to future solar development. The CDCA Plan (1980, as amended), while recognizing the potential compatibility of solar generation facilities with other uses on public lands, requires that all sites proposed for power generation or transmission not already identified in the plan be considered through the plan amendment process. If the BLM decides to grant a ROW, the BLM would amend the CDCA Plan as required based on guidance in the BLM Land Use Planning Handbook (H 1601-1). The inventory for wilderness characteristics was updated and the project area was found to lack wilderness characteristics.

A Notice of Intent to prepare an EIS and possible CDCA plan amendment for the DSSF was published in the Federal Register on January 13, 2010 (75 FR 1801). This was followed by a 30-day public scoping period which ended February 13, 2010. Scoping meetings were held on January 28, 2010, in Palm Desert, California. Numerous public scoping comments were received.

The main concerns identified during scoping included potential impacts to biological, visual, water, and air resources, wilderness characteristics and cumulative impacts resulting from the potential development of the Interstate Highway 10 corridor. The issues and concerns identified in the scoping comments were addressed in the Draft EIS.

Please note that public comments and information submitted including names, street addresses, and e-mail addresses of persons who submit comments will be available for public review and disclosure at the above address during regular business hours (8 a.m. to 4 p.m.), Monday through Friday, except holidays, and at the following Web site: http://www.blm.gov/ca.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10 and 43 CFR 1610.2

Thomas Pogacnik,
Deputy State Director, California.

[FR Doc. 2010-21276 Filed 8-26-10; 8:45 am]

BILLING CODE 4310-40-P